DEPARTMENT OF TRANSPORTATION

Federal Highway Administration

Environmental Impact Statement: Mason County, Washington

AGENCY: Federal Highway Administration (FHWA), DOT.

ACTION: Notice of Intent.

SUMMARY: The FHWA hereby gives notice that it intends to prepare an environmental impact statement (EIS) for a proposed highway project in Mason County, Washington.

FOR FURTHER INFORMATION CONTACT: Mr. James A. Leonard, Transportation and Environmental Engineer, Federal Highway Administration, 711 Capitol Way, Suite 501, Olympia, WA 98501, Telephone: (360) 753-9408; or Mr. Jerry W. Hauth, Mason County Director of Public Works, Courthouse Bldg 1, 411 North 5th Street, PO Box 1850, Shelton, WA 98584, Telephone: (360) 427-9670.

SUPPLEMENTARY INFORMATION:

Electronic Access

An electronic copy of this document may be downloaded using a modem and suitable communications software from the Government Printing Office's Electronic Bulletin Board Service at (202) 512-1661. Internet users may reach the Office of the Federal Register's home page at: http://www.access.gpo.gov.nara.

Background

The FHWA, in cooperation with the Washington State Department of Transportation and Mason County, will prepare an EIS to design, acquire land, and construct highway connector from SR 3 (south of Belfair, near the Location of the North Mason High School) to US 101 (north of Shelton). Access between the communities of Belfair and Shelton is currently provided by SR 3 and SR 106. Both of these are narrow two-lane farm-to-market routes that follow the shoreline on each side of the peninsula. All of the regional county roads feed into these two state highways. Congestion is already a concern during peak commuter hours and there are several high accident locations in the region. The high number of residential access points along all of SR 106 and section of SR 3 exacerbate the safety problem. In addition, both routes are subject to frequent landslides, and are constrained by steep topography, marine shorelines and limited right of way. Currently adopted traffic projections show that all of the major county road intersections on SR 3, and most of mainline SR 3 will fall below acceptable levels of service standards before the year 2020. Improvements to the corridor are considered necessary to provide for existing and projected traffic demand.

The EIS will include an evaluation of the no build alternative, as well as improvements to the existing highways and several practicable alignment alternatives for possible new connector routes.

The EIS will examine the short and long-term impacts on both the natural and physical environment. The impact assessment will include, but not limited to, impacts on wetlands, wildlife, and fisheries; social environment; changes in lands use; aesthetics; change in traffic; and economic impacts. The EIS will also examine measures to mitigate significant adverse impacts that may result from the proposed action.

Comments are being solicited from appropriate Federal, State, and local agencies, and from private organizations and citizens, who have interest in this proposal. Public information meetings will be held in the area as part of the scoping process to discuss public concerns and suggestions about the project. An agency scoping meeting will also be scheduled to discuss agency concerns. The draft EIS will be available to public and agency review prior to the public hearing which will be scheduled to receive comments. Public notice will be given of the time and place of all meeting and hearings.

Comments and/or suggestions from all interested parties are requested to ensure that the full range of all issues, and significant environmental and social issues in particular, are identified, reviewed and addressed. Comments and questions concerning this proposed action and/or its EIS should be directed to the FHWA or Mason County at the address listed above.

(Catalog of Federal domestic Assistant Programs Number 20.205, Highway Research, Planning and Construction. The regulations implementing Executive Order 12372 regarding intergovernmental consultation on Federal programs and activities apply to this program)

Issued on April 5, 2000.
James A. Leonard,
Transportation & Environmental Engineer, Olympia, WA.

[FR Doc. 00-9518 Filed 4-14-00; 8:45 am]

BILLING CODE 4910-22-M